DEPARTMENT OF COMMERCE

National Oceanic and Atmospheric Administration

[I.D. 080101E]

Pacific Fishery Management Council; Public Meeting

AGENCY: National Marine Fisheries Service (NMFS), National Oceanic and Atmospheric Administration (NOAA), Commerce.

ACTION: Notice of public meeting.

SUMMARY: The Pacific Fishery Management Council's (Council) Ad Hoc Groundfish Strategic Plan Implementation Oversight Committee (SPOC) will hold a telephone conference, which is open to the public.

DATES: The telephone conference will be held Thursday, August 30, 2001 from 9 a.m. until 12 p.m.

ADDRESSES: Listening stations will be available at sveral locations. See SUPPLEMENTARY INFORMATION for specific locations.

Council address: 7700 NE Ambassador Place, Suite 200, Portland, OR 97220-1384.

FOR FURTHER INFORMATION CONTACT: Mr. Dan Waldeck, telephone: (503) 326-6352.

SUPPLEMENTARY INFORMATION: The purpose of the telephone conference is to discuss several strategic plan related issues (1) results of the license limitation in the open access fishery meeting, (2) composition of the Council’s marine reserves steering group, and (3) results of the Council’s Ad Hoc Allocation Committee meeting.

Although nonemergency issues not contained in the meeting agenda may come before the SPOC for discussion, those issues may not be the subject of formal SPOC action during this meeting. Action will be restricted to those issues specifically listed in this notice and any issues arising after publication of this notice that require emergency action under section 305 (c) of the Magnuson-Stevens Fishery Conservation and Management Act, provided the public has been notified of the SPOC's intent to take final action to address the emergency.

Location of Listening Stations

1. NMFS Northwest Region, Director's Conference Room, 7600 Sand Point Way NE, Building 1, Seattle, WA 98115; Contact: Mr. Bill Robinson; (206) 526-6267.

2. Pacific Fishery Management Council, West Conference Room, 7700 NE Ambassador Place, Suite 200, Portland, OR 97220-1384; Contact: Mr. Dan Waldeck; (503) 326-6352

3. California Fish and Game Commission, Conference Room, Room 1320, 1416 Ninth Street, Sacramento, CA 95814; Contact: Mr. LB Boydstun; (916) 653-6281.

4. Natural Resource Building, oom 677, 111 Washington Street, E Olympia, WA 98501; Contact: Mr. Phil Anderson; (360) 902-2819.

5. National Marine Fisheries Service, Northwest Fisheries Science Center, 2030 S. Marine Drive, Newport, OR 97365; Contact: Ms. Cyreis Schmitt; (541) 867-0127.

6. Coos Bay Trawlers Association, 63422 Kingfisher Road, Charleston, OR 97420; Contact: Mr. Steve Bodnar; (541) 888-8012.

7. Pacific Marine Conservation Council, 340 Industry Road, Astoria, OR 97103; Contact: Mr. Bob Eaton; (503) 325-8188.

Special Accommodations

This meeting is physically accessible to people with disabilities. Requests for sign language interpretation or other auxiliary aids should be directed to Ms. Carolyn Porter at (503) 326-6352 at least 5 days prior to the meeting date.

Dated: August 2, 2001.
Richard W. Surdi,
Acting Director, Office of Sustainable Fisheries, National Marine Fisheries Service.

[FR Doc. 01-19904 Filed 8-7-01; 8:45 am]

BILLING CODE 3510-22-S